DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Northeast Fisheries Observer Program Fishermen's Comment Card.

OMB Control Number: 0648-0536.

Form Number(s): None.

Type of Request: Regular submission.

Burden Hours: 312.

Number of Respondents: 624.

Average Hours per Response: 15 minutes.

Needs and Uses: The Northeast Fisheries Observer Program (NEFOP) is managed by the Fisheries Sampling Branch (FSB) at the Northeast Fisheries Science Center, National Marine Fisheries Service (NMFS), National Oceanic and Atmospheric Administration (NOAA), Department of Commerce (DOC). NEFOP observers will observe aboard commercial fishing vessels involved in state or Federal fisheries, as required by Fisheries Management Plans (50 CFR 648.11) and court mandates and through legislation such as the Magnuson Stevens Act, Sections 303 and 403, and the Marine Mammal Protection Act, Section 1387. The Fishermen's Comment Card will help NEFOP assess observer performance, ensure higher data quality, help to detect fraud, and provide the fishermen with a direct line of communication to the program management. This is a tailored qualitative customer survey for fishermen having had observers on their vessels to provide direct feedback on observer performance to the NMFS. This will be collected on a voluntary basis. The card is available to all fishermen who have had a certified NEFOP observer onboard their vessel. The captain, owner, or crew member in charge may complete the survey. Postage is prepaid and self-addressed.

Affected Public: Business or other for-profit organizations.

Frequency: Semi-annually.

Respondent's Obligation: Voluntary.

OMB Desk Officer: David Rostker, (202) 395-3897.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: March 2, 2009.
Gwellnar Banks,
Management Analyst, Office of the Chief Information Officer.

[FR Doc. E9-4752 Filed 3-5-09; 8:45 am]

BILLING CODE 3510-22-P